DEPARTMENT OF JUSTICE

Notice of Lodging Proposed Consent Decree

In accordance with Departmental Policy, 28 CFR 50.7, notice is hereby given that a proposed consent decree in United States v. Michael P. Trinski and Michael G. Hogan, Case No. 07-C-3600, was lodged with the United States District Court for the Northern District of Illinois on December 28, 2011.

This proposed Consent Decree concerns a complaint filed by the United States against Michael P. Trinski and Michael G. Hogan, pursuant to Section 301(a) of the Clean Water Act, 33 U.S.C. 1311(a), to obtain injunctive relief from and impose civil penalties against the Defendants for discharging dredged or fill material into waters of the United States without a permit. The proposed Consent Decree requires payment of a civil penalty and donation of real property to the Fox Waterway Agency.

The Department of Justice will accept written comments relating to this proposed Consent Decree for thirty (30) days from the date of publication of this notice. Please address comments to Kurt Lindland, Assistant United States Attorney, United States Attorney's Office, 219 S. Dearborn Street, 5th Floor, Chicago, Illinois 60604 and refer to United States v. Michael P. Trinski and Michael G. Hogan, Case No. 07-C-3600, including the USAO #2007V01363 and DJ #90-5-1-1-17969.

The proposed Consent Decree may be examined at the Clerk's Office, United States District Court for the Northern District of Illinois, 219 S. Dearborn Street, Chicago, Illinois. In addition, the proposed Consent Decree may be viewed at http://www.usdoj.gov/enrd/Consent_Decrees.html.

Cherie L. Rogers,
Assistant Section Chief, Environmental Defense Section, Environment & Natural Resources Division.

[FR Doc. 2012-295 Filed 1-10-12; 8:45 am]

BILLING CODE P